DEPARTMENT OF HOMELAND SECURITY

Coast Guard

[Docket No. USCG-2013-0927]

Chemical Transportation Advisory Committee

AGENCY: Coast Guard, DHS.

ACTION: Committee Management; Notice of Federal Advisory Committee Meeting.

SUMMARY: The Chemical Transportation Advisory Committee (CTAC) and its Subcommittees and Working Groups will meet on December 10 through 12, 2013, in Washington, DC, to discuss marine transportation of hazardous materials. The meetings will be open to the public.

DATES: The following CTAC Subcommittees and Working Groups will meet on December 10 and 11, 2013: (1) Harmonization of Response and Carriage Requirements for Biofuels and Biofuel Blends, (2) Recommendations on Safety Standards for the Design of Vessels Carrying Natural Gas or Using Natural Gas as Fuel, (3) Recommendations for Safety Standards of Portable Facility Vapor Control Systems Used for Marine Operations, (4) Recommendations for Guidance on the Implementation of Revisions to the International Convention for the Prevention of Pollution from Ships, 1973 (MARPOL) Annex II and the IBC Code to 46 CFR 153, (5) Requirements for Third-Party Surveyors of MARPOL Annex II Prewash, and (6) Improving Implementation and Education of MARPOL Discharge Requirements Under MARPOL Annex II and V. Subcommittees and Working Groups will meet Tuesday, December 10, 2013, from 8 a.m. to 5 p.m. and Wednesday, December 11, 2013, from 8 a.m. to 5 p.m. The full CTAC committee will meet Thursday, December 12, 2013, from 8 a.m. to 5 p.m. Please note that the meetings may close early if the committee has completed its business.

All written materials, comments, and requests to make oral presentations at the meeting should reach Patrick Keffler, Alternate Designated Federal Officer (ADFO) for CTAC by December 3, 2013. For contact information please see the FOR FURTHER INFORMATION CONTACT section below. Any written material submitted by the public will be distributed to the Committee and become part of the public record.

ADDRESSES: The meetings will be held at the U.S. Coast Guard Headquarters, Room 6i10-01-a 2703 Martin Luther King Jr. Ave. SE., Washington, DC. Attendees will be required to pre-register no later than 5:00 p.m. on December 3, 2013, to be admitted to the building. U.S. citizens must provide name, position, company, telephone number, date of birth and social security number to LT Cristina Nelson (202-371-1419 or Cristina.E.Nelson@uscg.mil). Non-U.S. citizens must submit name, position, company, telephone number, date of birth, country of citizenship, and passport number. Attendees will be required to provide a government-issued picture identification card in order to gain admittance to the building.

For information on facilities or services for individuals with disabilities or to request special assistance at the meeting, contact Patrick Keffler as soon as possible.

To facilitate public participation, we are inviting public comment on the issues to be considered by the committee as listed in the “Agenda” section below. Comments must be submitted in writing no later than December 3, 2013, and may be submitted by one of the following methods:

(1) Federal eRulemaking Portal: http://www.regulations.gov. (Preferred method to avoid delays in processing.)

(2) Fax: 202-493-2252

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: This notice, and documents or comments related to it, may be viewed in our online docket, USCG-2013-0927 at http://www.regulations.gov.

A public comment period will be held during each subcommittee and the full committee meeting concerning matters being discussed. Public comments will be limited to three minutes per speaker. Please note that the public comment period may end before the time indicated following the last call for comments. Contact the individual listed below to register as a speaker.

FOR FURTHER INFORMATION CONTACT: Patrick Keffler, Alternate Designated Federal Officer (ADFO) of the CTAC, telephone 202-372-1424, fax 202-372-1926. If you have any questions on viewing or submitting material to the docket, call Barbara Hairston, Program Manager, Docket Operations, telephone 202-366-9826.

SUPPLEMENTARY INFORMATION: Notice of this meeting is given under the Federal Advisory Committee Act (FACA), 5 U.S.C. Appendix. (Pub. L. 92-463).

CTAC is an advisory committee authorized under section 871 of the Homeland Security Act of 2002, Title 6, United States Code, section 451, and chartered under the provisions of the FACA. The Committee acts solely in an advisory capacity to the Secretary of the Department of Homeland Security (DHS) through the Commandant of the Coast Guard and the Deputy Commandant for Operations on matters relating to marine transportation of hazardous materials. The Committee advises, consults with, and makes recommendations reflecting its independent judgment to the Secretary.

Agendas of Meetings

Subcommittee and Working Group Meetings on December 10 and 11.

Subcommittees and working groups will meet to continue to address the items of interest listed in paragraph (2) of the agenda for the December 12 meeting and the tasks given at the last CTAC meeting. The tasks from the last CTAC meeting are located at Homeport at the following address: https://homeport.uscg.mil. Go to: Missions > Ports and Waterways > Safety Advisory Committees > CTAC Subcommittees and Working Groups. The agenda for each working group will include the following:

1. Review task statements, which can be found at Homeport at the following address: https://homeport.uscg.mil, then go to: Missions > Ports and Waterways > Safety Advisory Committees > CTAC > Subcommittees and Working Groups.

2. Work on tasks assigned in task statements mentioned above.

3. Public comment period.

4. Discuss and prepare proposed recommendations for CTAC meeting on December 12 on tasks assigned in task statements mentioned above.

Committee Meeting on December 12

The agenda for the CTAC meeting on December 12 is as follows:

1. Introductions and opening remarks.

2. Public comment period.

3. Subcommittee will meet to review, discuss and formulate recommendations on the following items of interest:

a. Harmonization of Response and Carriage Requirements for Biofuels and Biofuel Blends

b. Recommendations on Safety Standards for the Design of Vessels Carrying Natural Gas or Using Natural Gas as Fuel

c. Recommendations for Safety Standards of Portable Facility Vapor Control Systems Used for Marine Operations

d. Recommendations for Guidance on the Implementation of Revisions to MARPOL Annex II and the IBC Code to 46 CFR 153

e. Requirements for Third-Party Surveyors of MARPOL Annex II Prewash

f. Improving Implementation and Education of MARPOL Discharge Requirements Under MARPOL Annex II and V.

4. USCG presentations on the following items of interest:

a. Update on International Maritime Organization as it relates to the marine transportation of hazardous materials

b. Update on U.S. Regulations as it relates to the marine transportation of hazardous materials

c. Update on Bulk Chemical Data Guide (Blue Book)

d. Vessel to vessel transfer of hazardous materials in bulk

5. Presentation of Items of Interest.

6. Set next meeting date and location.

7. Set Subcommittee and Working Group Meeting schedule.

Dated: November 6, 2013.
J. G. Lantz,
Director of Commercial Regulations and Standards.

[FR Doc. 2013-27031 Filed 11-8-13; 8:45 am]

BILLING CODE 9110-04-P